POSTAL REGULATORY COMMISSION

Sunshine Act Meetings

TIME AND DATE: Thursday, May 19, 2011, at 11 a.m.

PLACE: Commission main conference room, 901 New York Avenue, NW., Suite 200, Washington, DC 20268-0001.

STATUS: Closed.

Matters To Be Considered

1. Discussion of contractual matters involving sensitive business information—lease-related negotiations.

2. Discussion of confidential personnel matters—personnel management.

CONTACT PERSON FOR MORE INFORMATION: Stephen L. Sharfman, General Counsel, Postal Regulatory Commission, 901 New York Avenue, NW., Suite 200, Washington, DC 20268-0001, at 202-789-6820 (for agenda-related inquiries).

Dated: May 2, 2011.
By the Commission.
Ruth Ann Abrams,
Acting Secretary.

[FR Doc. 2011-11022 Filed 5-2-11; 4:15 pm]

BILLING CODE 7710-FW-P